Title 3—

The President

Proclamation 7739 of November 21, 2003

National Family Week, 2003

By the President of the United States of America

A Proclamation

As Americans gather during Thanksgiving week, we honor our families, and we recognize the family as a source of help, hope, and stability for our citizens and for our country.

Strong families make our Nation better. They teach our children values and help them become responsible citizens. We must encourage families to be loving and compassionate, generous and supportive, and to serve and help others.

On this Thanksgiving week, we also pay respect to our brave military families whose loved ones are on active duty, many on the front lines of freedom in Iraq and Afghanistan. These families provide a bond of love and encouragement to our men and women in uniform as they defend liberty and protect our Nation.

NOW, THEREFORE, I, GEORGE W. BUSH, President of the United States of America, by virtue of the authority vested in me by the Constitution and laws of the United States, do hereby proclaim November 23 through November 29, 2003, as National Family Week. I invite the States, communities, and all the people of the United States to join together in observing this week with appropriate ceremonies and activities to honor our Nation's families.

IN WITNESS WHEREOF, I have hereunto set my hand this twenty-first day of November, in the year of our Lord two thousand three, and of the Independence of the United States of America the two hundred and twenty-eighth.

B

[FR Doc. 03-29760

Filed 11-25-03; 8:45 am]

Billing code 3195-01-P